DEPARTMENT OF JUSTICE

[OMB Number 1110-0050]

Proposed Collection; Comments Requested: FBI National Academy Level 1 Evaluation: Student Course Questionnaire and FBI National Academy: General Remarks Questionnaire

ACTION: 30-Day Notice.

The Department of Justice (DOJ), Federal Bureau of Investigation (FBI), Training Division's Curriculum Management Section (CMS) will be submitting the following information collection request to the Office of Management and Budget (OMB) for review and approval in accordance with the Paperwork Reduction Act of 1995. The proposed information collection is published to obtain comments from the public and affected agencies. This proposed information collection was previously published in the Federal Register Volume 78, Number 38, Pages 13085-13086, on February 26, 2013, allowing for a 60-day comment period.

Comments are encouraged and will be accepted for 30 days until June 5, 2013. This process is conducted in accordance with 5 CFR 1320.10.

If you have comments (especially on the estimated public burden or associated response time), suggestions, or need a copy of the proposed information collection instrument with instructions or additional information, please contact Laleatha B. Goode, Management and Program Analyst, Federal Bureau of Investigation, Training Division, Evaluation and Accreditation Unit, FBI Academy, Quantico, Virginia 22135 or facsimile at (703) 632-3111.

Written comments and suggestions from the public and affected agencies concerning the proposed collection of information are encouraged. Your comments should address one or more of the following three points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and minimize the burden of the collection of information on those who are to respond, including the use of appropriate automated, electronic, mechanical, or other technological collection techniques or other forms of information technology, e.g., permitting electronic submission of responses.

Overview of This Information

1. Type of Information Collection:

Approval of a reinstated collection.

2. Title of the Forms:

FBI National Academy Level 1 Evaluation: Student Course Questionnaire.

FBI National Academy: General Remarks Questionnaire.

3. Agency Form Number, if any, and the applicable component of the department sponsoring the collection:

Form Number: 1110-0050.

Sponsor: Training Division of the Federal Bureau of Investigation (FBI), Department of Justice (DOJ).

4. Affected Public who will be asked or required to respond, as well as a brief abstract:

Primary: FBI National Academy students that represent state and local police and sheriffs' departments, military police organizations, and federal law enforcement agencies from the United States and over 150 foreign nations.

Brief Abstract: This collection is requested by FBI National Academy. These surveys have been developed to measure the effectiveness of services that the FBI National Academy provides. We will utilize the students' comments to improve the current curriculum.

5. An estimate of the total number of respondents and the amount of time estimated for an average respondent to respond:

Approximately 1,040 FBI National Academy students per year will respond to two types of questionnaires. (1) FBI National Academy Level 1 Evaluation: Student Course Questionnaire and (2) FBI National Academy: General Remarks Questionnaire. It is predicted that we will receive a 75% respond rate for both surveys.

Each student will respond to approximately six to seven Student Course Questionnaires—one for each class they have completed. The average time for reading the directions to each questionnaire is estimated to be 2 minutes; the time to complete each questionnaire is estimated to be approximately 20 minutes. Thus the total time to complete the Student Course Questionnaire is 22 minutes.

For the FBI National Academy: General Remarks Questionnaire, student will respond to one questionnaire. The average time for reading the directions to this questionnaire is estimated to be 2 minutes; the time to complete the questionnaire is estimated to be approximately 10 minutes. Thus the total time to complete the General Remarks Questionnaire is 12 minutes.

The total hour burden for both surveys is 2,080 hours.

6. An estimate of the total public burden (in hours) associated with the collection:

The average hour burden for completing all the surveys combined is 2,080 hours.

If additional information is required, contact: Jerri Murray, Department Clearance Officer, United States Department of Justice, Policy and Planning Staff, Justice Management Division, Justice Management Division, Two Constitution Square, 145 N Street NE., Room 1407B, Washington, DC 20530.

Dated: April 30, 2013.
Jerri Murray,
Department Clearance Officer for PRA, United States Department of Justice.

[FR Doc. 2013-10591 Filed 5-3-13; 8:45 am]

BILLING CODE 4410-02-P